FEDERAL COMMUNICATIONS COMMISSION

47 CFR Parts 2 and 25

[IB Docket No. 12-376; Report 2980]

Petition for Reconsideration of Action in Rulemaking Proceeding

AGENCY: Federal Communications Commission.

ACTION: Petition for reconsideration.

SUMMARY: In this document, a Petition for Reconsideration and Clarification (Petition) has been filed in the Commission's Rulemaking proceeding by Bruce A. Olcott on behalf of The Boeing Company.

DATES: Oppositions to the Petition must be filed on or before June 24, 2013. Replies to an opposition must be filed on or before July 2, 2013.

ADDRESSES: Federal Communications Commission, 445 12th Street SW., Washington, DC 20554.

FOR FURTHER INFORMATION CONTACT: Howard Griboff or Jennifer Balatan, Policy Division, International Bureau, (202) 418-1460.

SUPPLEMENTARY INFORMATION: This is a summary of the Commission's document, Report No. 2980, released May 30, 2013. The full text of Report No. 2980 is available for viewing and copying in Room CY-B402, 445 12th Street SW., Washington, DC or may be purchased from the Commission's copy contractor, Best Copy and Printing, Inc. (BCPI) (1-800-378-3160). The Commission will not send a copy of this document pursuant to the Congressional Review Act, 5 U.S.C. 801(a)(1)(A), because this document does not have an impact on any rules of particular applicability.

Subject: Revisions to Parts 2 and 25 of the Commission's Rules to Govern the Use of Earth Stations Aboard Aircraft Communicating with Fixed-Satellite Service Geostationary-Orbit Space Stations Operating in the 10.95-11.2 GHz, 11.45-11.7 GHz, 11.7-12.2 GHz and 14.0-14.5 GHz Frequency Bands, published at 78 FR 14920, March 8, 2013, and at 78 FR 14952, March 8, 2013, in IB Docket No. 12-376, and published pursuant to 47 CFR 1.429(e). See also 1.4(b)(1) of the Commission's rules.

Number of Petitions Filed: 1

Federal Communications Commission.
Gloria J. Miles,
Federal Register Liaison, Office of the Secretary, Office of Managing Director.

[FR Doc. 2013-13529 Filed 6-6-13; 8:45 am]

BILLING CODE 6712-01-P